DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: BHPr Performance Report for Grants and Cooperative Agreements (OMB No. 0915-0061)—Revision

The HRSA Bureau of Health Professions (BHPr) is revising and updating its existing performance data collection system that is used to monitor and assess its grantee and program performance. The system was formally referred to as the Uniform Progress Report but is now referenced as the BHPr Performance Report for Grants and Cooperative Agreements to be referred to as the BPR. The BHPr Performance Report for Grants and Cooperative Agreements is a critical information and data management tool that supports BHPr in monitoring grantee activities funded by Title III, Title VII, and Title VIII of the Public Health Service Act. The data collected helps to assess the grantee's success in achieving project objectives as well as BHPr's cross-cutting programmatic goals. The current reporting system is comprised of two sets of measures. Part I of the performance report collects information on program-specific activities and Part II collects information on a set of cluster measures that are related to BHPr's strategic goals, objectives, and outcomes.

The principal impetus for this review was the need to renew the Paperwork Reduction Act clearance of the data collection. In addition, the Affordable Care Act reauthorized many of these programs and the data collected needs to address shifts in programmatic emphases, as well as better account for the number of primary care providers trained. The review and revision seeks to insure that all of the critical outputs and outcomes that BHPr programs are charged with accomplishing are represented in the data collected at all points in the grantee process, including in the application, at award, and annually after award. For instance, baseline information at application is necessary as a means to identify performance trends and outcomes. The revised reporting system will provide an easier format and thus more flexibility for grantees to report quantitative and qualitative information on project targets and outcomes. BHPr will better be able to analyze grantee projections and accomplishments across program objectives.

Over the last few months, BHPr staff has been reviewing existing measures and methodologies for measuring program impact, exploring the extent to which development of new measures or adaptation of existing measures is appropriate for specific programs, eliminating data duplication and unnecessary reporting burden, and identifying cross-cutting areas and common performance measures. Existing data collection forms and accompanying guidance, including data definitions and descriptions of data sources, have been examined and revised as needed to support revised performance measures. Discussions were held, whenever possible, with current grantees to involve them in the review and revision process.

This process has resulted in a set of refined measures, tools, and guidance to provide more accurate and programmatically relevant data for Government Performance and Results Act (GPRA) and other reporting as well as to support evaluation activities. In addition to continuing the use of aggregated data for most program reporting, individual-level data collections have been added in selected specific program areas, including programs that produce primary care providers and programs designed to increase the diversity of the health workforce. Finally, limited data will be collected in applications and/or at the time of award to provide baseline data against which to measure progress.

The estimated annual burden is as follows:

Form | Number of respondents | Responses per respondent | Total responses | Hours per response | Total hour burden
Performance Baselines and Targets | 1500 | 1 | 1500 | 2 | 3,000
BHPr Annual Performance Report | 1500 | 1 | 1500 | 9.5 | 14,250
Total | 1500 |  | 1500 | 11.5 | 17,250

The estimated annual burden for the new data collection is only a little higher than the data collection approved in the recent extension. This net increase in number of hours per response reflects some reductions due to eliminating unneeded data tables and improved electronic reporting, as well as some increases due to new data collection forms. The performance baseline and target information is not requesting new information from the grantees. In most cases, applicants currently provide the requested information in various places within the application. The new data forms provide a standard format for collecting this information so HRSA can more easily analyze the data properly.

E-mail comments to paperwork@hrsa.gov or mail comments to the HRSA Reports Clearance Officer, Room 10-29, Parklawn Building, 5600 Fishers Lane, Rockville, MD 20857. Written comments should be received by the Reports Clearance Officer within 60 days of this notice.

Dated: May 16, 2011.
Reva Harris,
Acting Director, Division of Policy and Information Coordination.

[FR Doc. 2011-12475 Filed 5-19-11; 8:45 am]

BILLING CODE 4165-15-P